DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the associated funerary object was made by Peabody Museum of Archaeology and Ethnology professional staff in consultation with representatives of the Bay Mills Indian Community of the Sault Ste. Marie Band of Chippewa Indians, Bay Mills Reservation, Michigan; the Grand Traverse Band of Ottawa and Chippewa Indians of Michigan; the Little Traverse Bay Bands of Odawa Indians of Michigan; the Red Lake Band of Chippewa Indians of the Red Lake Reservation, Minnesota; and the Sault Ste. Marie Tribe of Chippewa Indians of Michigan.

In 1869, a wooden grave marker engraved with the image of an inverted crane, was donated to the Peabody Museum of Archaeology and Ethnology by Henry Gillman. No human remains are present.

Museum records indicate this grave marker was located near the Straits of Mackinac, MI. In traditional Ojibwe practice, these grave markers are manufactured exclusively for burial sites and funerary practice. The form of this grave marker is consistent with other known grave markers of the Crane clan and traditional Ojibwe practice.

Based on the specific cultural attribution in museum records, the early 19th century date of burial, and geographic location, this associated funerary object has been culturally affiliated with the Bay Mills Indian Community of the Sault Ste. Marie Band of Chippewa Indians, Bay Mills Reservation, Michigan; and the Sault Ste. Marie Tribe of Chippewa Indians of Michigan.

Based on the above-mentioned information, officials of the Peabody Museum of Archaeology and Ethnology have determined that, pursuant to 43 CFR 10.2 (d)(2), the one object listed above is reasonably believed to have been placed with or near individual human remains at the time of death or later as part of the death rite or ceremony. Officials of the Peabody Museum of Archaeology and Ethnology also have determined that, pursuant to 43 CFR 10.2 (e), there is a relationship of shared group identity that can be reasonably traced between this associated funerary object and the Bay Mills Indian Community of the Sault Ste. Marie Band of Chippewa Indians, Bay Mills Reservation, Michigan; and the Sault Ste. Marie Tribe of Chippewa Indians of Michigan. This notice has been sent to officials of the Bay Mills Indian Community of the Sault Ste. Marie Band of Chippewa Indians, Bay Mills Reservation, Michigan; the Grand Traverse Band of Ottawa and Chippewa Indians of Michigan; the Little Traverse Bay Bands of Odawa Indians of Michigan; the Red Lake Band of Chippewa Indians of the Red Lake Reservation, Minnesota; and the Sault Ste. Marie Tribe of Chippewa Indians of Michigan. Representatives of any other Indian tribe that believes itself to be culturally affiliated with this associated funerary object should contact Barbara Isaac, Repatriation Coordinator, Peabody Museum of Archaeology and Ethnology, 11 Divinity Avenue, Cambridge, MA 02138, telephone (617) 495-2254, before April 19, 2001. Repatriation of the associated funerary object to the Bay Mills Indian Community of the Sault Ste. Marie Band of Chippewa Indians, Bay Mills Reservation, Michigan; and the Sault Ste. Marie Tribe of Chippewa Indians of Michigan may begin after that date if no additional claimants come forward.

Dated: February 21, 2001.
John Robbins,
Assistant Director, Cultural Resources Stewardship and Partnerships.

[FR Doc. 01-6846 Filed 3-19-01; 8:45 am]

BILLING CODE 4310-70-F